DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: The American Community Survey.

Form Number(s): ACS-1, ACS-1(SP), ACS-1PR, ACS-1PR(SP),ACS-1(GQ), ACS-1(PR)(GQ), GQFQ, ACS CATI (HU), ACS CAPI (HU), ACS Reinterview (HU), GQ Reinterivew.

Agency Approval Number: 0607-0810.

Type of Request: Revision of a currently approved collection.

Burden: 1,994,500 hours.

Number of Respondents: 3,220,000.

Average Hours Per Response: 37 minutes.

Needs and Uses: The Census Bureau has developed a methodology to collect and update every year demographic, social, economic, and housing data that are essentially the same as the “long-form” data that the Census Bureau traditionally has collected once a decade as part of the decennial census. Federal and state government agencies use such data to evaluate and manage federal programs and to distribute funding for various programs that include food stamp benefits, transportation dollars, and housing grants. State, county, and community governments, nonprofit organizations, businesses, and the general public use information like housing quality, income distribution, journey-to-work patterns, immigration data, and regional age distributions for decision-making and program evaluation.

In years past, the Census Bureau collected the long-form data only once every ten years, which become out of date over the course of the decade. To provide more timely data, the Census Bureau developed an alternative called the American Community Survey (ACS). The ACS blends the strength of small area estimation with the high quality of current surveys. There is an increasing need for current data describing lower geographic detail. The ACS is now the only source of data available for small-area levels across the Nation and in Puerto Rico. In addition, there is an increased interest in obtaining data for small subpopulations such as groups within the Hispanic, Asian, and American Indian populations, the elderly, and children. The ACS provides current data throughout the decade for small areas and small subpopulations.

In its reengineering efforts for Census 2010, the Census Bureau is working to achieve a simplified census based on addressing the needs of different population groups, creating an integrated system for data capture, processing, and tabulation, and conducting early testing and evaluation to achieve operational efficiencies. Decennial census data collection efforts will now be spread throughout the decade. The operations, and the systems and technologies that support them, will be revised and improved to support a continuous data collection program.

Currently, the Census Bureau is implementing an alternative census design. The design retains a short form to conduct a census count and collect a few basic characteristics and removes the long form from the decennial census, opting instead to replace the once-a-decade long-form survey with a continuous annual survey, the American Community Survey. Given the escalating complexity of collecting data, the separation of long-form data collection from the 2010 Census is critical. The American Community Survey achieves this goal.

The American Community Survey provides more timely information for critical economic planning by governments and the private sector. In the current information-based economy, federal, state, tribal, and local decision-makers, as well as private business and nongovernmental organizations, need current, reliable, and comparable socioeconomic data to chart the future.

The ACS began providing up-to-date profiles in 2006 for areas and population groups of 65,000 or more people, providing policymakers, planners, and service providers in the public and private sectors with information every year-not just every ten years. The ACS program will provide estimates annually for all states and for all medium and large cities, counties, and metropolitan areas. For smaller areas and population groups, it will take three to five years to accumulate information to provide accurate estimates. After that period of time, the multiyear average estimates will be updated annually.

Using the Master Address File (MAF) from the decennial census that is updated each year, Census will select a sample of addresses, mail survey forms each month to a new group of potential households, and attempt to conduct interviews over the telephone with households that have not responded. Upon completion of the telephone follow-up, Census will select a sub-sample of the remaining households, which have not responded, typically at a rate of one in three, to designate a household for a personal interview. Census will also conduct interviews with a sample of residents at a sample of group quarters (GQ) facilities. Collecting these data from a new sample of HU and GQ facilities every month will not only provide more timely data but will lessen respondent burden in the decennial census.

We will release a yearly microdata file, similar to the Public Use Microdata Sample file of the Census 2000 long-form records. In addition, we will produce total population summary tabulations similar to the Census 2000 tabulations down to the block group level. The microdata files, tabulated files, and their associated documentation are available through the Internet.

For the 2008 ACS, we will use modified data collection materials based upon results of the 2006 ACS Content Test. The content of the 2008 American Community Survey questionnaire and data collection instruments for both residential and group quarters operations reflect 2006 tested changes to content, instructions, and forms design. These survey instruments will also include changes based on wording, format and instructions of the 2010 Census form for gender, age, relationship, race, Hispanic origin, and tenure.

The 2006 ACS Content Test resulted in a Census Bureau recommendation to OMB to modify twelve (seven housing and five population) question series on the ACS. The modified housing questions are: Year Structure Built, Value of Property, Number of Rooms, Number of Bedrooms, Kitchen Facilities, Plumbing Facilities, and Telephone Service Availability, and Food Stamp Benefit. The modified population questions are: School Enrollment, Educational Attainment, Residence 1 Year Ago, Disability, and Labor Force Status.

Two ACS questions, veteran years of military service and seasonal residence, will no longer be included in the ACS. The Veterans Administration has determined that these data are no longer needed annually at small geographic areas. The seasonal residence question was included in the ACS for the Census Bureau to evaluate seasonality effects. We now have enough data and do not need to continue this data collection.

The Census Bureau proposes including three new subjects on the ACS: Health insurance coverage, marital history, and veteran's service-connected disability ratings.

Census is beginning the once-a-decade process of confirming the statutory basis of each question on the ACS. Census will be seeking documentation and confirmation from other Federal agencies to ensure that every ACS question is fully justified and that data are needed annually at small geographic areas. This documentation will be submitted to Congress by March 31, 2008, as required by statute, and to OMB and the public as well.

Affected Public: Individuals or households, business or other for-profit organizations, not-for-profit institutions, Farms.

Frequency: Monthly. Respondents are required to provide a response only once.

Respondent's Obligation: Mandatory.

Legal Authority: Title 13 U.S.C., Sections 141, 193, and 221.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: May 23, 2007.
Gwellnar Banks,
Management Analyst, Office of the Chief Information Officer.

[FR Doc. E7-10335 Filed 5-29-07; 8:45 am]

BILLING CODE 3510-07-P